DEPARTMENT OF THE INTERIOR

Bureau of Land Management

[NM220-1430 EU; NM-114188 and NM-117236]

Direct Sale of Public Land in San Miguel County, NM

AGENCY: Bureau of Land Management, Interior.

ACTION: Notice of realty action.

SUMMARY: The Bureau of Land Management (BLM) proposes direct (non-competitive) sales of two parcels of public land, containing 1.07 acres and 1.04 acres located in San Miguel County, New Mexico. The described public land has been examined and through the public-supported land use planning process has been determined to be suitable for disposal by direct sale pursuant to section 203 of the Federal Land Policy and Management Act of 1976 (90 Stat. 2750, 43 U.S.C. 1713), as amended, at no less than the appraised fair market value. These sales will resolve two inadvertent trespasses on public land. An appraisal of the subject parcels fair market value is being prepared and when completed will be available for review at the BLM's Taos Field Office at the address stated below. Upon the completion and approval of the appraisal report, a subsequent notice will be published in the local newspaper specifying the fair market value.

DATES: Interested parties may submit comments to the BLM Taos Field Office Manager at the address below. Comments must be received by not later than December 31, 2007. The land will not be offered for sale until at least 60 days after the date of publication of this notice in the Federal Register.

ADDRESSES: Address all written comments concerning this Notice to Sam DesGeorges, Taos Field Office Manager, 226 Cruz Alta Road, Taos, New Mexico 87571.

FOR FURTHER INFORMATION CONTACT: Francina Martinez, Realty Specialist at the above address or (505) 758-8851.

SUPPLEMENTARY INFORMATION: The following described public land in San Miguel County, New Mexico has been determined to be suitable for sale at not less than fair market value under section 203 of the Federal Land Policy and Management Act of 1976, as amended (90 Stat. 2750, 43 U.S.C. 1713 and 1719). The proposed sales would resolve two inadvertent trespasses upon the land. It been determined that resource values will not be affected by the disposal of these two parcels of public land.

The parcels proposed for sale are described as:

New Mexico Principal Meridian

San Miguel County, NM

T. 13 N., R. 14 E.

Section 10, lots 15 & 18.

Lot 15 containing 1.07 acres is proposed to be sold to Lila Cano and Lot 18 containing 1.04 acres is proposed to be sold to Los Pueblos de San Miguel del Bado Community Council.

The patents, when issued, will contain a reservation to the United States for ditches and canals under the Act of March 30, 1890 and a reservation for all minerals.

The two parcels are being offered by direct sale to Lila Cano (NM-114188) and to Los Pueblos de San Miguel del Bado Community Council (NM-117236) of San Miguel County, New Mexico, based on historic use and added improvements. Both of the parcels of land have been used, one as a residence and the other as a school yard with a portion of a school located on it. Failure or refusal by Lila Cano and/or Los Pueblos de San Miguel del Bado Community Council to submit the required fair market appraisal amount within 180 days of the sale of the land will constitute a waiver of this preference consideration and this land may be offered for sale on a competitive or modified competitive basis.

Upon publication of this notice in the Federal Register, the land described above will be segregated from appropriation under the public land laws, including the general mining laws. The segregation will end upon issuance of patents or 270 days from the date of publication, whichever occurs first.

Comments must be received by the BLM Taos Field Manager, Taos Field Office, at the address stated above, on or before the date stated above. Only written comments will be accepted. Before including your address, phone number, e-mail address, or other personal identifying information in your comment, you should be aware that your entire comment—including your personal identifying information—may be made publicly available at any time. While you can ask us in your comment to withhold your personal identifying information from public review, we cannot guarantee that we will be able to do so. Any adverse comments will be reviewed by the Taos Field Manager, who may sustain, vacate or modify this realty action. In the absence of any objects, or adverse comments, this proposed realty action will become final determination of the Department of the Interior.

Dated: November 9, 2007.
Sam DesGeorges,
Taos Field Office Manager.

[FR Doc. E7-22438 Filed 11-15-07; 8:45 am]

BILLING CODE 4310-OW-P